DEPARTMENT OF DEFENSE

Department of the Army; Corps of Engineers

Coastal Engineering Research Board (CERB)

Correction

In notice document 04-23229 beginning on page 61357 in the issue of Monday, October 18, 2004, make the following correction:

On page 61357, in the third column, under the SUMMARY heading, in the third line from the bottom “(November 3, 2004); 8 a.m. to 5 p.m.” should read “(November 2, 2004); 8 a.m. to 5 p.m.”.

[FR Doc. C4-23229 Filed 10-22-04; 8:45 am]

BILLING CODE 1505-01-D

OFFICE OF PERSONNEL MANAGEMENT

2003 Nonforeign Area Cost-of-Living Allowance Survey Report: Alaska and Washington, DC, Areas

Correction

In notice document 04-5428 beginning on page 12002 in the issue of Friday, March 12, 2004, make the following correction:

On page 12008, in the second column, in Table 9, in the Index column, the second entry “1152.00” should read, “115.26”.

[FR Doc. C4-5428 Filed 10-22-04; 8:45 am]

BILLING CODE 1505-01-D

DEPARTMENT OF TRANSPORTATION

Office of the Secretary

Notice on the Role of Air Charter Brokers in Arranging Air Transportation

Correction

In notice document 04-23268 beginning on page 61429 in the issue of Monday, October 18, 2004, make the following correction:

On page 61431, in the first column, after the second full paragraph, in the fifth line, “bid bonds” should read “bid boards.”

[FR Doc. C4-23268 Filed 10-22-04; 8:45 am]

BILLING CODE 4910-62-P